DEPARTMENT OF TRANSPORTATION

Federal Aviation Administration

14 CFR Part 39

[Docket No. FAA-2005-20729; Directorate Identifier 2002-NM-71-AD; Amendment 39-14370; AD 2005-23-12]

RIN 2120-AA64

Airworthiness Directives; BAE Systems (Operations) Limited Model BAe 146 and Model Avro 146-RJ Airplanes

AGENCY: Federal Aviation Administration (FAA), Department of Transportation (DOT).

ACTION: Final rule.

SUMMARY: The FAA is superseding an existing airworthiness directive (AD), which applies to all BAE Systems (Operations) Limited Model BAe 146 and Model Avro 146-RJ airplanes. That AD currently requires revising the Airworthiness Limitations Section (ALS) of the Instructions for Continued Airworthiness to incorporate life limits for certain items and inspections to detect fatigue cracking in certain structures. This new AD requires revising the ALS of the Instructions for Continued Airworthiness to incorporate new and more restrictive life limits for certain items and new and more restrictive inspections to detect fatigue cracking in certain structures. This new AD results from issuance of a later revision to the airworthiness limitations of the BAe/Avro 146 Aircraft Maintenance Manual, which specifies new inspections and compliance times for inspection and replacement actions. We are issuing this AD to ensure that fatigue cracking of certain structural elements is detected and corrected; such fatigue cracking could adversely affect the structural integrity of these airplanes.

DATES: This AD becomes effective December 27, 2005.

ADDRESSES: You may examine the AD docket on the Internet at http://dms.dot.gov or in person at the Docket Management Facility, U.S. Department of Transportation, 400 Seventh Street SW., Nassif Building, Room PL-401, Washington, DC.

Contact British Aerospace Regional Aircraft American Support, 13850 Mclearen Road, Herndon, Virginia 20171, for service information identified in this AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2000-26-07, amendment 39-12057 (66 FR 263, January 3, 2001). The existing AD applies to all BAE Systems (Operations) Limited Model BAe 146 and Model Avro 146-RJ airplanes. That NPRM was published in the Federal Register on March 30, 2005 (70 FR 16187). That NPRM proposed to require revising the Airworthiness Limitations Section (ALS) of the Instructions for Continued Airworthiness to incorporate new and more restrictive life limits for certain items and new and more restrictive inspections to detect fatigue cracking in certain structures.

Comments

We provided the public the opportunity to participate in the development of this AD. We have considered the comments that have been received on the NPRM.

Request To Extend the Compliance Time

One commenter states that the 30-day compliance time is not sufficient for the amount of work involved in incorporating the requirements of the NPRM. The commenter states that incorporating the requirements involves a major revision to the inspection program.

We do not agree that the 30-day compliance time is not sufficient. The new requirements of this AD simply involve revising the ALS. The estimated time to revise the ALS is normally 1 hour per airplane. Therefore, we have determined that a 30-day compliance time is adequate for accomplishing the ALS revision. Additionally, the time to implement the structural inspections and life limits specified in the revision of the ALS could vary significantly between operators and we are not able to predict what those variances may be. Continued operational safety necessitates revising the ALS within the 30-day compliance because of the severity of the unsafe condition. Therefore, we have determined that it is unnecessary to revise the final rule in that regard. However, a provision to allow an operator to request an approval for an extension of the compliance time may be submitted in accordance with paragraph (j) of this AD.

Request To Revise the Estimated “Costs of Compliance”

The same commenter also requests that we revise the estimated “Costs of Compliance” in the NPRM. The commenter states that the estimated cost of the NPRM has been greatly understated. The commenter notes that the reasons specified in the previous paragraph to extend the compliance time also contribute to a much higher cost to implement the requirements of the NPRM. In fact, the commenter estimates that it will cost $518,000 to accomplish the requirements of the NPRM for its fleet of 12 airplanes.

We do not agree that the “Costs of Compliance” need to be revised. The direct cost of implementing the revision of the ALS that is required by this AD will take about 1 hour per airplane. However, we recognize that this AD may impose certain operational costs, and that maintaining airplanes in an airworthy condition is vital, but sometimes expensive. ADs require specific actions to address specific unsafe conditions and consequently may appear to impose costs that would not otherwise be borne by operators. However, because operators have a general obligation to maintain their airplanes in an airworthy condition, this appearance is deceptive. Attributing those costs solely to this AD is unrealistic because, in the interest of maintaining safe airplanes, prudent operators would accomplish these actions even if they were not required by the AD. We find it unnecessary to revise the final rule in that regard.

Request To Revise Format for Clarification

The same commenter requests that the NPRM be revised to simplify the fact that the NPRM would supersede the requirements of AD 2000-26-07. The commenter notes that the re-statement of AD 2000-26-07 in paragraph (f) of the NPRM, along with the statement in paragraph (h) of the NPRM that once the new and more restrictive inspections required by paragraph (h) have been incorporated the requirements of paragraph (f) are terminated, is redundant and distracts from the meaning and clear understanding of the NPRM.

We do not agree that such “simplification” would clarify the requirements of this AD. Repeating the requirements of the existing AD merely provides for continuing the requirements of AD 2000-26-07 until the new requirements of this AD are complied with. The requirements are not “redundant” because, after the effective date of this AD (when AD 2000-26-27 will be superseded), airplanes subject to the airworthiness limitations specified in that AD will continue to be subject to them until the limitations are revised as required by this AD. Further, many operators have requested that we explicitly provide wording to reflect when the requirements of an AD are terminated, and we try to accommodate this clarification when applicable. We find that it is unnecessary to revise the final rule in that regard.

Request To Clearly Identify the New Inspections

The same commenter states that it would be less confusing if the NPRM skipped all the references to the Airplane Maintenance Manual (AMM) sections and revisions and just stated that the structural inspections in the Maintenance Review Board (MRB) report 146-1, section 6, at “X revision level” had to be incorporated into the Airworthiness Limitation Section (ALS).

We do not agree that the AD should reference complying with the AD in accordance with the MRB report. Although the data specified in the MRB report may be identical to the AMM, the data specified in the AMM has been approved by the Civil Aviation Authority (CAA), which is the airworthiness authority for the United Kingdom. No change is necessary to this AD in that regard. However, if an operator wishes to request an alternative method of compliance (AMOC), a provision has been specified in paragraph (j) of this AD.

Request To Clarify Effectivity

The same commenter states that it is not clear if the NPRM is addressing the structural inspections for airplanes that exceed the limits under the life extension program (LEP). The commenter notes that Section 05-10-01 of the AMM, which was specified in the NPRM as a source of service information, identifies the Supplemental Structural Inspection Document (SSID), Service Bulletin 05-002-20011A as the document that specifies the structural inspections for airplanes on which the LEP applies. However, the commenter states that the inspection requirements for the SSID have not all been identified, and as of April 28, 2005, Service Bulletin 05-002-20011A has not been published.

We acknowledge that a new service bulletin has not been issued yet. However, ANM 05-10-01 clearly specifies that it applies to airframe airworthiness limitations before the life extension program, and that, to provide effective corrosion control, the maintenance is required in accordance with the Corrosion Prevention and Control Program. We find that it is unnecessary to revise the final rule in this regard. However, when additional service information becomes available, we may consider further rulemaking.

Since the Issuance of the Proposed AD

After the issuance of the proposed AD, we received and reviewed a later revision of AMM 05-10-01, dated July 15, 2005. AMM 05-10-01 references AMM 05-20-01 and AMM 05-10-00 as additional sources of service information. AMM 05-10-01 has been approved and mandated by the CAA of the United Kingdom. We have revised the AD to reflect this latest issuance of Chapter 05-10-01.

Editorial Changes

We have revised paragraph (f) of this AD to state that the Airworthiness Limitations Section (ALS) of the Instructions for Continued Airworthiness must be revised in accordance with a method approved by the Manager, International Branch, ANM-116, FAA, Transport Airplane Directorate. We have also added that, one acceptable method of revision is by incorporating Section 05-10-01, dated July 15, 2005, of Chapter 5 of the BAe/Avro 146 Aircraft Maintenance Manual (AMM), into the ALS.

We have added a new Note 1 to this action regarding operators requesting Alternative Methods of Compliance (AMOCs) that provides other guidance regarding airplanes that have been previously modified, altered, or repaired in the areas addressed by the inspections of certain structures. Additionally, we have revised paragraph (j) of this action to clarify the appropriate procedure for notifying the principal inspector before using any approved AMOC on any airplane to which the AMOC applies.

Explanation of Change to Applicability

We have revised the applicability of the existing AD to identify model designations as published in the most recent type certificate data sheet for the affected models.

Conclusion

We have carefully reviewed the available data, including the comments that have been received, and determined that air safety and the public interest require adopting the AD with the changes described previously. We have determined that these changes will neither increase the economic burden on any operator nor increase the scope of the AD.

Costs of Compliance

This AD will affect about 59 airplanes of U.S. registry.

The actions that are required by AD 2000-26-07 and retained in this AD take about 1 work hour per airplane, at an average labor rate of $65 per work hour. No parts are required. Based on these figures, the estimated cost of the currently required actions is $65 per airplane.

The new required actions will take about 1 work hour per airplane, at an average labor rate of $65 per work hour. No parts will be required. Based on these figures, the estimated cost of the new actions specified in this AD for U.S. operators is $3,835, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12057 (66 FR 263, January 3, 2001) and adding the following new airworthiness directive (AD):

2005-23-12 BAE Systems (Operations) Limited (Formerly British Aerospace Regional Aircraft): Amendment 39-14370. Docket No. FAA-2005-20729; Directorate Identifier 2002-NM-71-AD.

Effective Date

(a) This AD becomes effective December 27, 2005.

Affected ADs

(b) This AD supersedes AD 2000-26-07.

Applicability

(c) This AD applies to all BAE Systems (Operations) Limited Model BAe 146-100A, -200A, and -300A series airplanes and Model Avro 146-RJ70A, 146-RJ85A, and 146-RJ100A airplanes, certificated in any category.

Unsafe Condition

(d) This AD was prompted by issuance of a later revision to the airworthiness limitations of the BAe/Avro 146 Aircraft Maintenance Manual, which specifies new inspections and compliance times for inspection and replacement actions. We are issuing this AD to ensure that fatigue cracking of certain structural elements is detected and corrected; such fatigue cracking could adversely affect the structural integrity of these airplanes.

Compliance

(e) You are responsible for having the actions required by this AD performed within the compliance times specified, unless the actions have already been done.

Requirements of AD 2000-26-07:

Airworthiness Limitations Revision

(f) Within 30 days after February 7, 2001 (the effective date of AD 2000-26-07), revise the Airworthiness Limitations Section (ALS) of the Instructions for Continued Airworthiness in accordance with a method approved by the Manager, International Branch, ANM-116, FAA, Transport Airplane Directorate. One acceptable method of revision is by incorporating Section 05-10-01, Revision 65, dated August 3, 1999, of Chapter 5 of the BAe/Avro 146 Aircraft Maintenance Manual (AMM), into the ALS. That section references other sections of the AMM. The applicable revision level of the referenced sections is that in effect on the effective date of this AD.

(g) Except as specified in paragraph (j) of this AD: After the actions specified in paragraph (f) of this AD have been accomplished, no alternative inspections or inspection intervals may be approved for the structural elements specified in the document listed in paragraph (f) of this AD.

New Requirements of This AD

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j) of this AD. The request should include a description of changes to the required inspections that will ensure the continued damage tolerance of the affected structure. The FAA has provided guidance for this determination in Advisory Circular (AC) 25-1529.

Later Revision for Airworthiness Limitations

(h) Within 30 days after the effective date of this AD, revise the ALS of the Instructions for Continued Airworthiness to incorporate new and more restrictive life limits for certain items and new and more restrictive inspections to detect fatigue cracking in certain structures, in accordance with a method approved by the Manager, International Branch, ANM-116, Transport Airplane Directorate, FAA; or the Civil Aviation Authority (or its delegated agent). Section 05-10-01, dated July 15, 2005, of Chapter 5 of the BAe/Avro 146 Aircraft Maintenance Manual is one approved method. This section references other sections of the AMM. The applicable revision level of the referenced sections is that in effect on the effective date of this AD. Incorporating the new and more restrictive life limits and inspections into the ALS terminates the requirements of paragraphs (f) and (g) of this AD, and after incorporation has been done, the limitations required by paragraph (f) of this AD may be removed from the ALS.

(i) Except as specified in paragraph (j) of this AD: After the actions specified in paragraph (h) of this AD have been accomplished, no alternative inspections or inspection intervals may be approved for the structural elements specified in the document listed in paragraph (h) of this AD.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs, approved previously in accordance with AD 2000-26-07, are approved as AMOCs for the corresponding requirements of this AD.

Material Incorporated by Reference

(k) None.

Issued in Renton, Washington, on November 14, 2005.
Kalene C. Yanamura,
Acting Manager, Transport Airplane Directorate, Aircraft Certification Service.

[FR Doc. 05-22970 Filed 11-21-05; 8:45 am]

BILLING CODE 4910-13-P